OFFICE OF SCIENCE AND TECHNOLOGY POLICY

Notice of Public Meeting of the U.S.-EU Communities of Research on Environmental, Health, and Safety Issues Related to Nanomaterials

ACTION: Notice of public meetings.

SUMMARY: The National Nanotechnology Coordination Office (NNCO), on behalf of the Nanoscale Science, Engineering, and Technology Subcommittee of the Committee on Technology, National Science and Technology Council and in collaboration with the European Commission, will host meetings for the U.S.-EU Communities of Research (CORs) on the topic of environmental, health, and safety issues related to nanomaterials (nanoEHS) between the publication date of this Notice and September 30, 2016. The CORs are a platform for scientists to develop a shared repertoire of protocols and methods to overcome research gaps and barriers. The co-chairs for each COR will convene meetings and set meeting agendas with administrative support from the European Commission and the NNCO.

DATES: The CORs will hold multiple webinars and/or conference calls between the publication date of this Notice and September 30, 2016.

ADDRESSES: Teleconferences and web meetings for the CORs will take place periodically between the publication date of this Notice and September 30, 2016. Meeting dates, call-in information, and other COR updates will be posted on the Community of Research page at http://us-eu.org/.

FOR FURTHER INFORMATION CONTACT: For information regarding this Notice, please contact Stacey Standridge at National Nanotechnology Coordination Office, by telephone (703-292-8103) or email (sstandridge@nnco.nano.gov). Additional information about the CORs and their upcoming meetings is posted at http://us-eu.org/.

SUPPLEMENTARY INFORMATION: There are seven Communities of Research addressing complementary themes:

• Characterization

• Databases and Computational Modeling for NanoEHS

• Exposure through Product Life

• Ecotoxicity

• Human Toxicity

• Risk Assessment

• Risk Management and Control

The CORs directly address Objectives 4.1.4 (“Participate in international efforts, particularly those aimed at generating [nanoEHS] best practices”) and 4.2.3 (“Participate in coordinated international efforts focused on sharing data, guidance, and best practices for environmental and human risk assessment and management”) of the 2014 National Nanotechnology Initiative Strategic Plan (see http://www.nano.gov/2014StrategicPlan). However, the CORs are not envisioned to provide any government agency with advice or recommendations.

Registration: Individuals wishing to participate in any of the CORs should send the participant's name, affiliation, and country of residence to sstandridge@nnco.nano.gov or mail the information to Stacey Standridge, 4201 Wilson Blvd., Stafford II, Suite 405, Arlington, VA 22230. NNCO will collect email addresses from registrants to ensure that they are added to the COR listserv(s) to receive meeting information and other updates relevant to the COR scope from other COR members. Email addresses are submitted on a completely voluntary basis.

Meeting Accommodations: Individuals requiring special accommodation to access these public meetings should contact Stacey Standridge (telephone 703-292-8103) at least ten business days prior to each meeting so that appropriate arrangements can be made.

Ted Wackler,
Deputy Chief of Staff and Assistant Director.

[FR Doc. 2015-29428 Filed 11-19-15; 8:45 am]

BILLING CODE 3270-F6-P